DEPARTMENT OF COMMERCE

Foreign-Trade Zones Board

[B-44-2023]

Foreign-Trade Zone (FTZ) 49; Authorization of Production Activity; Getinge Group Logistics Americas LLC; (Care Products and Kits); Dayton, New Jersey

On July 7, 2023, Getinge Group Logistics Americas LLC submitted a notification of proposed production activity to the FTZ Board for its facility within Subzone 49W in Dayton, New Jersey.

The notification was processed in accordance with the regulations of the FTZ Board (15 CFR part 400), including notice in the Federal Register inviting public comment (88 FR 44779, July 13, 2023). On November 6, 2023, the applicant was notified of the FTZ Board's decision that no further review of the activity is warranted at this time. The production activity described in the notification was authorized, subject to the FTZ Act and the FTZ Board's regulations, including section 400.14.

Dated: November 6, 2023.
Elizabeth Whiteman,
Executive Secretary.

[FR Doc. 2023-24822 Filed 11-8-23; 8:45 am]

BILLING CODE 3510-DS-P